DEPARTMENT OF LABOR

Employment and Training Administration

[TA-W-82,289]

American Airlines, a Subsidiary of AMR Corporation, Tulsa International Airport, Fleet Services Clerks, Tulsa, Oklahoma; Notice of Negative Determination Regarding Application for Reconsideration

By application dated April 1, 2013, the State of Oklahoma Employment Security Commission requested administrative reconsideration of the Department of Labor's negative determination regarding eligibility to apply for Trade Adjustment Assistance (TAA), applicable to workers and former workers of American Airlines, a subsidiary of AMR Corporation, Tulsa International Airport, Fleet Service Clerks, Tulsa, Oklahoma. American Airlines supplies air transportation services. The subject worker group is engaged in activities related to the supply of cargo and baggage handling services and servicing aircraft interiors. The Department's Notice of determination was issued on March 5, 2013 and published in the Federal Register on March 26, 2013 (78 FR 18370).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition, filed by three workers, stated “aircraft maintenance has been outsourced to China” and that the fleet services clerks “cleaned aircraft and did light maintenance items such as upholstery, rugs, drafts, and other items.”

The negative determination was based on the findings of the initial investigation that revealed that American Airlines did not import the supply of services like or directly competitive with the aircraft interior maintenance services supplied by the subject worker group. The Department did not conduct a customer survey because the aircraft interior maintenance services supplied by the Fleet Service Clerks are used internally by American Airlines.

The investigation also revealed that the subject worker group separations are not attributable to a shift of aircraft interior maintenance services to a foreign country or to an acquisition of such services from a foreign country by the subject firm.

Further, the investigation revealed that the subject firm is neither a Supplier nor a Downstream Producer to a firm that employed a group of workers who received a certification of eligibility under Section 222(a) of the Act, 19 U.S.C. 2272(a).

Finally, the investigation revealed that the group eligibility requirements under Section 222(e) of the Act were not satisfied because the workers' firm has not been publicly identified by name by the International Trade Commission as a member of a domestic industry in an investigation resulting in an affirmative finding of serious injury, market disruption, or material injury, or threat thereof.

The request for reconsideration states: “It is the belief of the employees that their jobs were directly or indirectly affected due to a shift in aircraft maintenance/repair services which are now being performed overseas. The Fleet Service Clerks were responsible for servicing aircraft interiors. Since those aircraft are now receiving maintenance overseas, the duty of servicing the interiors of the affected aircraft is no longer being conducted in Tulsa.” The request for reconsideration did not include documents in support of the request.

The request for reconsideration did not supply facts not previously considered nor provided additional documentation indicating that there was either (1) a mistake in the determination of facts not previously considered or (2) a misinterpretation of facts or of the law justifying reconsideration of the initial determination. Based on these findings, the Department determines that 29 CFR 90.18(c) has not been met.

Conclusion

After careful review of the application and investigative findings, I conclude that there has been no error or misinterpretation of the law or of the facts which would justify reconsideration of the Department of Labor's prior decision. Accordingly, the application is denied.

Signed in Washington, DC, this 29th day of April, 2013.
Del Min Amy Chen,,
Certifying Officer, Office of Trade Adjustment Assistance.

[FR Doc. 2013-11478 Filed 5-14-13; 8:45 am]

BILLING CODE 4510-FN-P